DEPARTMENT OF ENERGY

Federal Energy Regulatory Commission

[Project No. 2428-007]

Aquenergy Systems, LLC; Notice of Application Tendered for Filing With the Commission and Soliciting Additional Study Requests and Establishing Procedural Schedule for Relicensing and a Deadline for Submission of Final Amendments

Take notice that the following hydroelectric application has been filed with the Commission and is available for public inspection.

a. Type of Application: Minor New License.

b. Project No.: P-2428-007.

c. Date filed: December 31, 2015.

d. Applicant: Aquenergy Systems, LLC.

e. Name of Project: Piedmont Hydroelectric Project.

f. Location: On the Saluda River, in Anderson and Greenville Counties, South Carolina. The project does not occupy lands of the United States.

g. Filed Pursuant to: Federal Power Act 16 U.S.C. 791 (a)-825(r).

h. Applicant Contact: Beth E. Harris, P.E., Regional Operations Manager, Enel Green Power North America, Inc., 11 Anderson St., Piedmont, SC 29674; (864) 846-0042; Beth.Harris@Enel.com.

i. FERC Contact: Sean Murphy, (202) 502-6145 or sean.murphy@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 29, 2016

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2428-007.

m. The application is not ready for environmental analysis at this time.

n. The Piedmont Hydroelectric Project consists of: (a) A 25-foot-high, 600-foot-long stone masonry dam with a 200-foot-long overflow spillway section fitted with 16-inch-high flashboards; (b) a reservoir with a surface area of 22 acres at the normal water surface elevation of 774.0 feet mean sea level; (c) an open flume intake canal, about 144 feet long and 81 feet wide; (d) a powerhouse containing a single generating unit with a rated capacity of 1,000 kW; (e) a tailrace, about 180 feet long and 38 feet wide; (f) a 600 volt transmission line, about 263 feet long; and (g) appurtenant facilities.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Notice of Acceptance | August 2016.
Issue Scoping Document 1 for comments | October 2016.
Comments on Scoping Document 1 due | December 2016.
Issue Scoping Document 2 | February 2017.
Issue notice of ready for environmental analysis | March 2017.
Commission issues EA | October 2017.
Comments on EA due | November 2017.
Commission issues final EA | January 2018.

Final amendments to the application must be filed with the Commission no later than 30 days from the issuance date of the notice of ready for environmental analysis.

Dated: January 12, 2016.
Nathaniel J. Davis, Sr.,
Deputy Secretary.

[FR Doc. 2016-00820 Filed 1-15-16; 8:45 am]

BILLING CODE 6717-01-P